DEPARTMENT OF THE TREASURY

Internal Revenue Service

26 CFR Part 58

[TD 10037]

RIN 1545-BQ59

Excise Tax on Repurchase of Corporate Stock; Correction

AGENCY: Internal Revenue Service (IRS), Treasury.

ACTION: Final rule; correction and correcting amendments.

SUMMARY: This document includes corrections to Treasury Decision 10037 published in the Federal Register on Monday, November 24, 2025. Treasury Decision 10037 contains final regulations that provide guidance regarding the application of the excise tax on repurchases of corporate stock made after December 31, 2022.

DATES:

Effective date: These corrections are effective on December 19, 2025.

Applicability date: For dates of applicability, see §§ 1.1275-6(f)(12)(iii)(B), 58.4501-6, 58.4501-7(r), and 58.6011-1(d).

FOR FURTHER INFORMATION CONTACT: Concerning § 58.4501-7, Brittany N. Dobi of the Office of Associate Chief Counsel (International) at (202) 317-5469 (not a toll-free number). For all other issues, Kailee H. Hock of the Office of Associate Chief Counsel (Corporate) at (202) 317-3181 (not a toll-free number).

SUPPLEMENTARY INFORMATION:

Background

The final regulations (TD 10037) subject to these corrections are issued under sections 1275, 4501, and 6011 of the Internal Revenue Code (Code).

Correction of Publication

Accordingly, FR Doc. 2025-20721 (TD 10037), appearing on page 53144 in the Federal Register on Monday, November 24, 2025, is corrected as follows:

1. On page 53150, in the second column, in the first full paragraph, the sixth line from the top of the paragraph is corrected to read “purposes. See § 1.368-2(m)(3)(iii)”.

2. On page 53150, in the third column, in the second full paragraph, the sixth line from the top of the paragraph is corrected to read “§ 1.368-2(m)(3)(iii)), and because such a”.

List of Subjects in 26 CFR Part 58

Excise taxes, Stocks, Reporting and recordkeeping requirements.

Correction to the Regulations

Accordingly, 26 CFR part 58 is corrected by making the following correcting amendments:

PART 58—STOCK REPURCHASE EXCISE TAX

Paragraph 1. The authority citation for part 58 continues to read in part as follows:

Authority: 26 U.S.C. 4501(f) and 7805.

Par. 2. Section 58.4501-5 is amended by removing the first two sentences of paragraph (b)(11)(ii) and revising the last sentence of paragraph (b)(11)(iii) to read as follows:

§ 58.4501-5 Examples.

* * * * *

(b) * * *

(11) * * *

(iii) * * * Consequently, Corporation X's stock repurchase excise tax base for its 2025 taxable year is $20x ($100x−$80x).

* * * * *

Oluwafunmilayo A. Taylor,
Chief, Publications and Regulations Section, Associate Chief Counsel. (Procedure and Administration)

[FR Doc. 2025-23460 Filed 12-18-25; 8:45 am]

BILLING CODE 4831-GV-P